Proclamation 10563 of April 28, 2023

National Mental Health Awareness Month, 2023

By the President of the United States of America

A Proclamation

During National Mental Health Awareness Month, we honor the absolute courage of the tens of millions of Americans living with mental health conditions, and we celebrate the loved ones and mental health professionals who are there for them every day. Treatment works, and there is no shame in seeking it. Together, we will keep fighting to get everyone access to the care they need to live full and happy lives.

As Americans, we have a duty of care to reach out to one another and leave no one behind. But so many of our friends, colleagues, and loved ones are battling mental health challenges, made worse by the isolation and trauma of COVID-19. Two in five adults report anxiety and depression, and two in five teens describe experiencing persistent sadness or hopelessness, exacerbated by social media, bullying, and gun violence. Drug overdose deaths are also near record highs, and suicide is the second leading cause of death among young people. It does not have to be this way.

As President, I released a new national strategy to transform how we understand and address mental health in America—supporting and training more providers, improving access to care, and building healthy environments that promote mental health. This work is a core pillar of the Unity Agenda that I outlined in my first State of the Union Address. Mental health is health; it affects everyone, regardless of race, gender, politics, or income. Promoting it is one of the big things that we can all agree to do together as Americans to make our country stronger.

The United States has long faced a shortage of mental health providers. It takes an average of 11 years to get treatment after the onset of symptoms, and less than half of Americans struggling with mental illness ever receive the care they need. This is especially true in rural and other underserved communities. That is why the American Rescue Plan made our Nation's biggest-ever investment in mental health and substance use programs—recruiting, training, and supporting more providers at the State and local levels, including in our schools. Last year, when we passed the Nation's first major gun safety law in nearly 30 years, it contained measures to further increase the number of school psychologists and counselors available to our kids, to make it easier for schools to use Medicaid to deliver mental health care, and to expand the Certified Community Behavioral Health Clinics that deliver 24/7 care. Additionally, we have invested in training more first responders to address mental health-related issues.

Last year, we also launched 988 as the Nation's new Suicide and Crisis Lifeline so anyone in the midst of a crisis can receive life-saving confidential help right away. We added dedicated counselors trained in supporting LGBTQI+ youth to the 988 lifeline, and for veterans, we made it easier to reach the Veterans Crisis Line by dialing 988 and pressing 1 to reach trained crisis responders. We created a separate Maternal Mental Health Hotline to help mothers navigate mental health issues like postpartum depression, anxiety, and substance use disorders, which affect one in five pregnant and postpartum women. Far too often, these disorders go undiagnosed and untreated, so we have invested in programs that bolster screening and treatment and call specific attention to them during Maternal Mental Health Awareness Week, which we also observe this month. Finally, we have passed historic laws that further require insurers to cover mental health care as they would any other kind of treatment, that lower prescription drug costs, and that expand health coverage generally. I am proud that we have seen historic health insurance coverage gains since I took office.

At the same time, we are fighting to expand access to prevention and treatment for substance use disorders, including opioid use disorder, which have devastated so many families and communities. This includes expanding access to mental health and substance use treatment in jails and prisons and during reentry to support people when they return home. And last year, we passed a law making it easier for doctors to prescribe effective addiction treatment. Anyone suffering should know they are not alone: We believe in recovery, and we celebrate the courage of the 23 million Americans who have come so far down that road.

We are also expanding mental health care for service members and veterans, to better honor our sacred obligation to the troops we send into harm's way and to care for them and their families when they are home. We cannot keep losing 17 veterans a day to the silent scourge of suicide. My Administration is increasing access to mental health care, hiring more mental health professionals, and investing in programs that recruit veterans to help one another get the support they need. And we are working to expand rental assistance and job placement programs to help smooth veterans' return to civilian life. I have also signed laws extending counseling, benefits, and other mental health resources to first responders and their families to help them heal from the trauma that they or their loved ones faced on the job.

There is much more to do. For one, we must finally hold social media companies accountable for the experiments they are running on our children for profit. I have called on the Congress to limit the personal data that tech companies collect, to ban targeted advertising directed at minors, and to require social media platforms to put health and safety first, especially for kids.

We all have a role to play in ending the stigma around mental health issues. It starts by showing compassion, so everyone feels free to ask for help. If you are facing a crisis, dial 988 to reach the National Suicide and Crisis Lifeline. If you are a new or expecting mother, you can call 1-833-9-HELP4MOMS for confidential professional advice. If you are feeling overwhelmed or just need someone to talk to, ask your healthcare provider, contact the Substance Abuse and Mental Health Services Administration's National Helpline at 1-800-662-HELP, or visit www.FindSupport.gov. If someone you know is going through a tough time, reach out and tell them you are there for them. We are all in this together.

NOW, THEREFORE, I, JOSEPH R. BIDEN JR., President of the United States of America, by virtue of the authority vested in me by the Constitution and the laws of the United States, do hereby proclaim May 2023 as National Mental Health Awareness Month. I call upon citizens, government agencies, private businesses, nonprofit organizations, and other groups to join in activities and take action to strengthen the mental health of our communities and our Nation.

IN WITNESS WHEREOF, I have hereunto set my hand this twenty-eighth day of April, in the year of our Lord two thousand twenty-three, and of the Independence of the United States of America the two hundred and forty-seventh.

[FR Doc. 2023-09535

Filed 5-2-23; 8:45 am]

Billing code 3395-F3-P